DEPARTMENT OF AGRICULTURE

Animal and Plant Health Inspection Service

[Docket No. APHIS-2017-0048]

Notice of Request for Revision to and Extension of Approval of an Information Collection; Importation of Animals and Poultry, Animal and Poultry Products, Certain Animal Embryos, Semen, and Zoological Animals

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the importation of animals and poultry, animal and poultry products, certain animal embryos, semen, and zoological animals.

DATES: We will consider all comments that we receive on or before August 29, 2017.

ADDRESSES: You may submit comments by either of the following methods:

• Federal eRulemaking Portal: Go to http://www.regulations.gov/#!docketDetail;D=APHIS-2017-0048.

• Postal Mail/Commercial Delivery: Send your comment to Docket No. APHIS-2017-0048, Regulatory Analysis and Development, PPD, APHIS, Station 3A-03.8, 4700 River Road Unit 118, Riverdale, MD 20737-1238.

Supporting documents and any comments we receive on this docket may be viewed at http://www.regulations.gov/#!docketDetail;D=APHIS-2017-0048 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the importation of animals and poultry, animal and poultry products, certain animal embryos, and zoological animals, contact Dr. Bettina Helm, Senior Staff Veterinarian, VS, APHIS, 4700 River Road Unit 39, Riverdale, MD 20737; (301) 851-3300. For copies of more detailed information on the information collection, contact Ms. Kimberly Hardy, APHIS' Information Collection Coordinator, at (301) 851-2483.

SUPPLEMENTARY INFORMATION:

Title: Importation of Animals and Poultry, Animal and Poultry Products, Certain Animal Embryos, Semen, and Zoological Animals.

OMB Control Number: 0579-0040.

Type of Request: Revision to and extension of approval of an information collection.

Abstract: Under the Animal Health Protection Act (7 U.S.C. 8301 et seq.), the Animal and Plant Health Inspection Service (APHIS) of the United States Department of Agriculture (USDA) is authorized, among other things, to prohibit or restrict the importation of animals, animal products, and other articles into the United States to prevent the introduction of animal diseases and pests. Disease prevention is the most effective method for maintaining a healthy animal population and for enhancing APHIS' ability to compete in the world market of animal and animal product trade.

Among other things, APHIS' Veterinary Services is responsible for preventing the introduction of foreign or certain other communicable animal diseases into the United States and for rapidly identifying, containing, eradicating, or otherwise mitigating such diseases when feasible. In connection with this mission, APHIS collects information from individuals, businesses, and farms that are involved with importation of animals or poultry, animal or poultry products, or animal germplasm (semen, ooycysts, and embryos, including eggs for hatching) into the United States, as well as from foreign countries and States to support these imports. Some of the information collection activities include agreements, permits, application and space reservation requests, inspections, registers, declarations of importation, requests for hearings, daily logs, additional requirements, application for permits, export health certificates, letters, written notices, daily record of horse activities, written requests, opportunities to present views, reporting, applications for approval of facilities, certifications, arrival notices, on-hold shipment notifications, reports, affidavits, animal identification, written plans, checklists, specimen submissions, emergency action notifications, refusal of entry and order to dispose of fish, premises information, recordkeeping, and application of seals.

In addition, APHIS opens U.S. markets to animal commodities by receiving and evaluating information collection activities, such as requests for recognition of the animal health status of a region, applications for recognition of the animal health status of a region, applications for recognition of a region as historically free of a disease, requests for additional information about the region, appeal classification of animal health status, and written recommendation implementation from foreign animal health authorities seeking to engage in the regionalization process.

The information collection requirements above are currently approved by the Office of Management and Budget (OMB) under OMB control numbers 0579-0040 (Importation of Animals and Poultry, Animal and Poultry Products, Certain Animal Embryos, Semen, and Zoological Animals), 0579-0165 (Importation of Horses, Ruminants, Swine, and Dogs; Inspection and Treatment for Screwworm), 0579-0224 (Tuberculosis Testing of Imported Cattle from Mexico), 0579-0301 (Spring Viremia of Carp; Import Restrictions on Certain Live Fish, Fertilized Eggs, and Gametes), and 0579-0425 (Cattle Fever Tick; Importation Requirements for Ruminants from Mexico). After OMB approves this combined information collection package (0579-0040), APHIS will retire OMB control numbers 0579-0165, 0579-0224, 0579-0301, and 0579-0425.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.57 hours per response.

Respondents: Foreign animal health authorities; U.S. importers; foreign exporters; veterinarians and animal health technicians in other countries; State animal health authorities; shippers, owners and operators of foreign processing plants and farms; USDA-approved zoos, laboratories, and feedlots; private quarantine facilities; and other entities involved (directly or indirectly) in the importation of animals and poultry, animal and poultry products, zoological animals, and animal germplasm.

Estimated annual number of respondents: 8,412.

Estimated annual number of responses per respondent: 65.

Estimated annual number of responses: 545,020.

Estimated total annual burden on respondents: 313,843 hours. (Due to averaging, the total annual burden hours may not equal the product of the annual number of responses multiplied by the reporting burden per response.)

All responses to this notice will be summarized and included in the request for OMB approval. All comments will also become a matter of public record.

Done in Washington, DC, this 27th day of June 2017.
Michael C. Gregoire,
Acting Administrator, Animal and Plant Health Inspection Service.

[FR Doc. 2017-13782 Filed 6-29-17; 8:45 am]

BILLING CODE 3410-34-P